DEPARTMENT OF TRANSPORTATION

Federal Aviation Administration (FAA)

Public Notice for a Change in Use of Aeronautical Property at Louisville International Airport, Louisville, KY

AGENCY: Federal Aviation Administration (FAA), DOT.

ACTION: Request for Public Comment.

SUMMARY: Under the provisions of 49 U.S.C. 47153(c), the Federal Aviation Administration is requesting public comment on the Louisville Regional Airport Authority's request to change a portion (3.49 acres) of airport property from aeronautical use to non-aeronautical use. The property is to be sold to Huber's Inc., d/b/a Budget Truck and Car Rental (“Budget”) for commercial development.

The 3.49 acres is located in the Highland Park neighborhood, north of the Intrastate 264, and is located one block on the west side of Crittenden Drive between East Adair and Wawa Avenues.

DATES: Comments must be received on or before May 20, 2005.

ADDRESSES: Comments on this notice may be mailed or delivered in triplicate to the FAA at the following address: Memphis Airports District Office, 2862 Business Park Drive, Building G, Memphis, TN 38118-1555.

In addition, one copy of any comments submitted to the FAA must be mailed or delivered to Mr. Charles T. Miller, Executive Director, Louisville Regional Airport Authority at the following address: P.O. Box 9129, Louisville, Kentucky 40209-0129.

FOR FURTHER INFORMATION CONTACT: Tommy L. Dupree, Program Manager, Memphis Airports District Office, 2862 Business Park Drive, Building G, Memphis, TN 38118-1555, (901) 322-8185. The application may be reviewed in person at this same location.

SUPPLEMENTARY INFORMATION: The FAA is reviewing a request by Louisville Regional Airport Authority to release 3.49 acres of aeronautical property at the Louisville International Airport. The property will be purchased by Huber's Inc., d/b/a Budget Truck and Car Rental (“Budget”) for commercial development. A detailed legal description of the property proposed for release can be requested or seen at either of the contacts given above. However, the general description is 3.49 acres located in the Highland Park neighborhood, north of the Intrastate 264, located one block on the west side of Crittenden Drive between East Adair and Wawa Avenues.

The net proceeds from the non-aeronautical use or the sale of this property will be used for airport purposes.

Any person may inspect the request in person at the FAA office listed above under FOR FURTHER INFORMATION CONTACT. In addition, any person may, upon request, inspect the request, notice and other documents germane to the request in person at the Louisville Regional Airport Authority.

Issued in Memphis, Tennessee on April 11, 2005.
LaVerne F. Reid,
Manager, Memphis Airports District Office, Southern Region.

[FR Doc. 05-7829 Filed 4-19-05; 8:45 am]

BILLING CODE 4910-13-M